DEPARTMENT OF JUSTICE

Antitrust Division

Notice Pursuant to the National Cooperative Research and Production Act of 1993—The National Board of Boiler and Pressure Vessel Inspectors

Notice is hereby given that, on September 17, 2004, pursuant to section 6(a) of the National Cooperative Research and Production Act of 1993, 15 U.S.C. 4301 et seq. (“the Act”), The National Board of Boiler and Pressure Vessel Inspectors (“National Board”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The National Board of Boiler and Pressure Vessel Inspectors, Columbus, OH. The nature and scope of the National Board's standards development activities are: securing concerted action and maintaining uniformity in the construction, installation, inspection, operation, repair and alteration of boilers, pressure vessels or other pressure retaining items and their appurtenances, thereby assuring acceptance and interchangeability among jurisdictional authorities.

Dorothy B. Fountain,
Deputy Director of Operations, Antitrust Division.

[FR Doc. 04-23530 Filed 10-20-04; 8:45 am]

BILLING CODE 4410-11-M